DEPARTMENT OF THE TREASURY

United States Mint

Establish Pricing for 2020 United States Mint Numismatic Products

AGENCY: United States Mint, Department of the Treasury.

ACTION: Notice.

SUMMARY: The United States Mint is establishing a price for two new United States Mint numismatic products in accordance with the table below:

Product | 2020 retail price
2020 United States Mint Ornament | $29.95
2020 Mighty MintersTM Ornament | 27.95

FOR FURTHER INFORMATION CONTACT: Cathy Olson, Marketing Specialist, Sales and Marketing; United States Mint; 801 9th Street NW; Washington, DC 20220; or call 202-354-7519.

Authority: 31 U.S.C. 9701

Eric Anderson,
Executive Secretary, United States Mint.

[FR Doc. 2020-24415 Filed 11-3-20; 8:45 am]

BILLING CODE 4810-37-P